DEPARTMENT OF ENERGY

Federal Energy Regulatory Commission

[Project No. 5698-024]

Triton Power Company; Notice of Application Tendered for Filing With the Commission and Soliciting Additional Study Requests and Establishing Procedural Schedule for Relicensing and a Deadline for Submission of Final Amendments

Take notice that the following hydroelectric application has been filed with the Commission and is available for public inspection.

a. Type of Application: New License.

b. Project No.: 5698-024.

c. Date Filed: July 31, 2025.

d. Applicant: Triton Power Company (Triton Power).

e. Name of Project: Chateaugay High Falls Hydroelectric Project.

f. Location: On the Chateaugay River in Franklin County, New York.

g. Filed Pursuant to: Federal Power Act, 16 U.S.C. 791(a)-825(r).

h. Applicant Contact: Daniel Sailler, General Manager, Triton Power Company, 10777 Barkley Street, Suite 140, Overland Park, Kansas 66211; telephone at (913) 231-8400; email at Daniel.Sailler@renewhydro.energy.

i. FERC Contact: Arash Barsari, Project Coordinator, Great Lakes Branch, Division of Hydropower Licensing; telephone at (202) 502-6207; email at Arash.JalaliBarsari@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: on or before 5:00 p.m. Eastern Time on September 29, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Chateaugay High Falls Hydroelectric Project (P-5698-024).

m. The application is not ready for environmental analysis at this time.

Project Description: The Chateaugay High Falls Project includes an 87.6-foot-long, 63.7-foot-high dam, known as the High Falls Dam, that consists of an 85.6-foot-long spillway with a crest elevation of 962.7 feet National Geodetic Vertical Dam of 1929 (NGVD 29) and a 2-foot-long east abutment. The dam creates an impoundment that has a surface area of 2.9 acres at 962.7 feet NGVD 29.

From the impoundment, water flows through an intake structure located on the eastern shoreline of the impoundment approximately 180 feet upstream of the dam that is equipped with a 16-foot-long intake opening with trashracks with 1-inch clear bar spacing and a 5-foot-long slide gate. From the intake structure, water flows through a 480-foot-long penstock to a 50-foot-wide, 40-foot-long powerhouse that contains a 1,260-kilowatt (kW) horizontal Francis turbine-generator unit and a 450-kW vertical Byron Jackson turbine-generator unit, for a total installed capacity of 1,710 kW. Water is discharged from the powerhouse to a 38-foot-long tailrace. The project creates an approximately 250-foot-long bypassed reach.

The project includes a downstream fish passage facility adjacent to the intake structure that consists of a fish collection box and a series of pipes that lead to a plunge pool located approximately 100 feet downstream of the dam.

Electricity generated at the powerhouse is transmitted to the electric grid via a 1,110-foot-long, 4.16-kilovolt transmission line. The minimum and maximum hydraulic capacities of the powerhouse are 20 and 235 cubic feet per second (cfs), respectively. The average annual energy production of the project from 2015 through 2024, was 5,321 megawatt-hours.

The current license requires the project to operate in a run-of-river mode such that project outflow approximates inflow to the impoundment. Triton Power maintains the normal maximum surface elevation of the impoundment at 962.7 feet NGVD 29. The current license also requires Triton Power to release a minimum aesthetic flow of 55 cfs or inflow, whichever is less, over the spillway from sunrise to sunset, from Memorial Day through September 30, and on all Saturdays, Sundays, and United States and Canadian holidays during May and the first three weeks of October. Triton Power proposes to continue operating the project as currently licensed. Triton Power proposes to remove from the project boundary 0.04 acre that is adjacent to the project interconnection point with the electric grid.

Triton Power states that it is not proposing any new measures at this time, but intends to file a revised licensing proposal by July 31, 2026, following agency consultation and completion of several studies that it did not complete prior to filing the license application, including a water quality study, freshwater mussel survey, macroinvertebrate survey, fish community survey, downstream fish passage evaluation, bypass habitat and flow study, run-of-river operation study, and wetlands and aquatic vegetation study.

n. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-5698). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

o. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

p. Procedural Schedule: The application will be processed according to the following preliminary schedule. Revisions to the schedule will be made as appropriate.

Issue Deficiency Letter and Request Additional Information—September 2025

q. Final amendments to the application must be filed with the Commission no later than 30 days from the issuance date of the notice of ready for environmental analysis.

Dated: August 14, 2025.
Debbie-Anne A. Reese,
Secretary.

[FR Doc. 2025-15763 Filed 8-18-25; 8:45 am]

BILLING CODE 6717-01-P